DEPARTMENT OF AGRICULTURE

Food Safety and Inspection Service

[Docket No. FSIS-2016-0003]

Codex Alimentarius Commission: Meeting of the Codex Committee on Food Labeling

AGENCY: Office of the Deputy Under Secretary for Food Safety, USDA.

ACTION: Notice of public meeting and request for comments.

SUMMARY: The Office of the Deputy Under Secretary for Food Safety, U.S. Department of Agriculture (USDA), and the Food and Drug Administration (FDA), are sponsoring a public meeting on April 13, 2016. The objective of the public meeting is to provide information and receive public comments on agenda items and draft United States (U.S.) positions to be discussed at the 43rd Session of the Codex Committee on Food Labeling in Foods (CCFL) of the Codex Alimentarius Commission (Codex), taking place in Ottawa, Canada May 9-13, 2016. The Deputy Under Secretary for Food Safety and the FDA recognize the importance of providing interested parties the opportunity to obtain background information on the 43rd Session of the CCFL and to address items on the agenda.

DATES: The public meeting is scheduled for Wednesday, April 13, 2016, from 1:00 p.m.-3:00 p.m.

ADDRESSES: The public meeting will take place at the Food and Drug Administration (FDA), Harvey W. Wiley Federal Building, Center for Safety and Applied Nutrition (CFSAN), 5100 Paint Branch Parkway, Room 1A-003, College Park, MD 20740. Documents related to the 43rd Session of the CCFL will be accessible via the Internet at http://www.codexalimentarius.org/meetings-reports/en/.

Felicia Billingslea, U.S. Delegate to the 43rd Session of the CCFL, invites U.S. parties to submit their comments electronically to the following email address: ccfl@fda.hhs.gov.

Call-In-Number

If you wish to participate in the public meeting for the 43rd Session of the CCFL by conference call. Please use the call-in-number below:

Call-in-Number: 1-888-844-9904.

The participant code will be posted on the Web page below: http://www.fsis.usda.gov/wps/portal/fsis/topics/international-affairs/us-codex-alimentarius/public-meetings.

Registration

Attendees may register electronically to attend the public meeting by emailing barbara.mcniff@fsis.usda.gov by April 11, 2016. The meeting will be held in a Federal building. Early registration is encouraged as it will expedite entry into the building and parking area. Attendees should bring photo identification and plan for adequate time to pass through security screening systems. If you require parking, please include the vehicle make and tag number when you register. Attendees not able to attend the meeting in-person, but wish to participate may do so by phone.

For Further Information About the 43rd Session of the CCFL Contact: Office of Nutrition, Labeling, and Dietary Supplements, CFSAN/FDA, 5100 Paint Branch Parkway (HFS-800), College Park, MD 20740, Email: ccfl@fda.hhs.gov.

FOR FURTHER INFORMATION ABOUT THE PUBLIC MEETING CONTACT: Barbara McNiff, U.S. Codex Office, 1400 Independence Avenue SW., Room 4861, Washington, DC 20250, Telephone: (202) 690-4719, Fax: (202) 720-3157, Email: Barbara.McNiff@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCFL is responsible for:

(a) Drafting provisions on labeling applicable to all foods;

(b) Considering, amending if necessary, and endorsing draft specific provisions on labeling prepared by the Codex Committee's drafting standards, codes of practice, and guidelines;

(c) Studying specific labeling problems assigned to it by the Commission; and

(d) Studying problems associated with the advertisement of food with particular reference to claims and misleading descriptions.

The Committee is hosted by Canada.

Issues To Be Discussed at the Public Meeting

The following items on the Agenda for the 43rd Session of the CCFL will be discussed during the public meeting:

• Matters referred to the Committee by the Codex Alimentarius Commission and by other Codex Subsidiary Bodies;

• Consideration of labelling provisions in draft Codex standards;

• Organic aquaculture (Proposed Draft Revision of the Guidelines for the Production, Processing, Labelling, and Marketing of Organically Produced Foods);

• Date Marking (Proposed Draft Revision of the General Standard for the Labelling of Prepackaged Foods);

• Labelling of non-retail containers (Discussion paper);

• Issues related to Internet sales of food (Discussion Paper);

• Proposal to revise the General Guidelines for the Use of the Term “Halal”; and

• Other Business and Future Work.

Each issue listed will be fully described in documents distributed, or to be distributed, by the Secretariat before the meeting. Members of the public may access or request copies of these documents (see ADDRESSES).

Public Meeting

At the April 13, 2016, public meeting, draft U.S. positions on the agenda items will be described and discussed, and attendees will have the opportunity to pose questions and offer comments. Written comments may be offered at the meeting or sent to Felicia Billingslea for the 43rd Session of the CCFL (see ADDRESSES). Written comments should state that they relate to activities of the 43rd Session of the CCFL.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Email: program.intake@usda.gov.

Fax: (202) 690-7442.

Persons with disabilities who require alternative means for communication (Braille, large print, audiotape, etc.), should contact USDA's TARGET Center at (202) 720-2600 (voice and TDD).

Done at Washington, DC, on February 22, 2016.
Paulo Almeida,
Acting U.S. Manager for Codex Alimentarius.

[FR Doc. 2016-04106 Filed 2-25-16; 8:45 am]

BILLING CODE 3410-DM-P